DEPARTMENT OF ENERGY

Federal Energy Regulatory Commission

[Project No. 10462-002-New York]

Erie Boulevard Hydropower, L.P.; Notice of Extension of Time to File Comments, Recommendations, Terms and Conditions, and Prescriptions

May 17, 2001.

By letter dated April 5, 2001, Erie Boulevard Hydropower, L.P. (Erie) requested an extension of time for the filing of comments in response to the Commission's Notice of Ready for Environmental Analysis and Soliciting, Recommendations, Terms and Conditions, and Prescriptions issued March 27, 2001, concerning Erie's application for a proposed original license for the Allens Falls Project on the West Branch of the St. Regis River, near the village of Parishville, St. Lawrence County, New York. Erie stated that it had been meeting with the New York Department Environmental Conservation (NYSDEC) as part of continuing negotiations on major licensing issues pertaining to the project and anticipated a settlement offer on those issues to be achieved by June 2001. Erie stated that the additional time is needed so the parties to the proceedings (particularly the resource agencies) can avoid having to develop and support positions, especially recommendations or mandatory conditions pursuant to Section 10(j) or Section 18 of the Federal Power Act, that may differ from proposals expected to be arrived at in the settlement offer.

By letter dated April 23, 2001, the Department of the Interior supported Erie's request. By letter dated May 1, 2001, Erie reported it had also obtained verbal agreement on the extension request from representatives of the U.S. Fish and Wildlife Service, the NYSDEC, the Adirondack Mountain Club, New York Rivers United, Trout Unlimited, and American Whitewater.

Upon consideration, notice is hereby given that an extension of time for the filing of comments, recommendations, terms and conditions, and prescriptions is granted, and they are now due on July 25, 2001.

David P. Boergers,
Secretary.

[FR Doc. 01-12961 Filed 5-22-01; 8:45 am]

BILLING CODE 6717-01-M